DEPARTMENT OF LABOR

Employment and Training Administration

Renewal of the Native American Employment and Training Council (NAETC) Charter

AGENCY: Employment and Training Administration (ETA), Labor.

ACTION: Renewal of the Native American Employment and Training Council (NAETC) Charter.

SUMMARY: The Secretary of Labor (Secretary) has renewed the charter for NAETC. The new charter will expire 2 years from the filing date.

FOR FURTHER INFORMATION CONTACT: Athena Brown, Designated Federal Officer, by phone at (202) 693-3737, or by email at brown.athena@dol.gov.

SUPPLEMENTARY INFORMATION: The Department of Labor (the Department or DOL) announces the renewal of the charter for NAETC, established under the Workforce Innovation and Opportunity Act (WIOA), Section 166(i)(4), (29 U.S.C. 3221(i)(4)). Congress established NAETC to advise the Secretary on the operation and administration of the WIOA Section 166 Indian and Native American Employment and Training programs. In addition, the NAETC advises the Secretary on matters that promote the employment and training needs of Indians and Native Americans, as well as to enhance the quality of life in accordance with the Indian Self-Determination and Education Assistance Act. The NAETC also provides guidance to the Secretary on how to make DOL discretionary funding and other special initiatives more accessible to federally recognized tribes, Alaska Native entities, and Native Hawaiian organizations. NAETC operates in accordance with the Federal Advisory Committee Act (FACA), as amended, (5 U.S.C. App), Secretary of Labor's Order 04-2018 (83 FR 35680, July 27, 2018, and Chapter 1600 of Department of Labor Manual Series 3 (7/18/2016). The new charter updates the procedures for appointment of individuals to Department of Labor advisory committees.

Molly E. Conway,
Acting Assistant Secretary for Employment and Training, Labor.

[FR Doc. 2019-15336 Filed 7-18-19; 8:45 am]

BILLING CODE 4510-FN-P